DEPARTMENT OF THE INTERIOR

Fish and Wildlife Service

[FWS-R6-ES-2014-0048; FF06E22000-145-FXES11130600000]

Endangered and Threatened Wildlife and Plants; Permits; Draft Environmental Impact Statement and Habitat Conservation Plan for the R-Project Transmission Line in Nebraska

AGENCY: Fish and Wildlife Service, Interior.

ACTION: Notice of intent; announcement of public scoping meetings; request for public comments.

SUMMARY: We, the U.S. Fish and Wildlife Service, intend to prepare a draft environmental impact statement (DEIS) under the National Environmental Policy Act (NEPA) to consider potential impacts on the human environment from the proposed issuance of an incidental take permit (permit) and required implementation of a Habitat Conservation Plan (HCP). The Nebraska Public Power District (NPPD) is proposing to apply for the permit for take of the American burying beetle associated with the construction, operation, and maintenance of the R-Project Transmission Line in north-central Nebraska. The American burying beetle is federally listed as an endangered species.

We provide this notice to (1) describe the proposed action; (2) advise other Federal and State agencies, potentially affected tribes, and the public of our intent to prepare an DEIS; (3) announce the initiation of a 60-day public scoping period; and (4) obtain suggestions and information on the scope of issues and possible alternatives to be included in the DEIS. The intended effect of this notice is to gather information from the public for consideration when developing alternatives to the proposed action that will avoid, minimize, and mitigate the effects of incidental take to the maximum extent practicable and to address other potential impacts to the human environment.

DATES: To ensure consideration, we must receive your written comments on or before December 29, 2014. Three scoping meetings will be held, from 4 p.m. until 7 p.m. on the following dates, at the following locations:

American Legion—November 18, 2014, 4 p.m. to 7 p.m., 657 G Street, Burwell, NE 68823;

Village Municipal Offices (Village of Sutherland Community Building)—November 19, 2014, 4 p.m. to 7 p.m., 1200 First Street, Sutherland, NE 69165; and

Thomas County Fairgrounds—November 20, 2014, 4 p.m. to 7 p.m., 83861 Highway 83, Thedford, NE 69166.

ADDRESSES: Send your comments regarding the proposed action and the proposed DEIS by any one of the following methods:

Electronically: www.regulations.gov. Follow the instructions for submitting comments on Docket No. FWS-R6-ES-2014-0048.

U.S. Mail: Public Comments Processing, Attn: FWS-R6-ES-2014-0048; Division of Policy and Directives Management; U.S. Fish and Wildlife Service; MS: BPHC; 5275 Leesburg Pike; Falls Church, VA 22041-3803.

In-Person Drop-off, Viewing, or Pickup: Written comments will also be accepted at the public meetings (see DATES).

We request that you send comments only by the methods described above. We will post all comments on http://www.regulations.gov. This generally means that we will post any personal information you provide us (see the Public Availability of Comments section below for more information).

FOR FURTHER INFORMATION CONTACT: Eliza Hines, Acting Field Supervisor, by phone at (308) 382-6468, and by U.S. mail at U.S. Fish and Wildlife Service, 9325 South Alda Road, Wood River, NE 68883. Individuals who are hearing or speech impaired may call the Federal Relay Service at (800) 877-8337 for TTY assistance.

Reasonable Accommodations: Persons needing reasonable accommodations to attend and participate in the public meetings should contact Eliza Hines. To allow sufficient time to accommodate requests, please call no later than one week before the meeting. Information regarding the proposed action is available in alternative formats upon request.

SUPPLEMENTARY INFORMATION: We intend to prepare a DEIS under NEPA (42 U.S.C. 4321 et seq.) to consider potential impacts on the human environment from the proposed issuance of an incidental take permit (permit) and required implementation of a Habitat Conservation Plan (HCP). The Nebraska Public Power District (NPPD) is proposing to apply for the permit for take of the American burying beetle (Nicrophorous americanus) associated with the construction, operation, and maintenance of the R-Project Transmission Line in north-central Nebraska. The American burying beetle is federally listed as an endangered species.

The NPPD is preparing a draft HCP as part of its application for the permit. The HCP must include measures to avoid, minimize, and mitigate the impacts of the take of covered species within the plan area during project construction, operation, and maintenance activities. We provide this notice to (1) describe the proposed action; (2) advise other Federal and State agencies, potentially affected tribes, and the public of our intent to prepare an DEIS; (3) announce the initiation of a 60-day public scoping period; and (4) obtain suggestions and information on the scope of issues and possible alternatives to be included in the DEIS. The intended effect of this notice is to gather information from the public for consideration when developing alternatives to the proposed action that will avoid, minimize, and mitigate the effects of incidental take to the maximum extent practicable and to address other potential impacts to the human environment.

Background

Section 9 of the Endangered Species Act of 1973, as amended (16 U.S.C. 1531 et seq.; ESA), and its implementing regulations (50 CFR part 17), prohibit “take” of threatened and endangered fish or wildlife species. Take is defined under the ESA as to harass, harm, pursue, hunt, shoot, wound, kill, trap, capture, collect, or to attempt to engage in any such conduct (16 U.S.C. 1532(19)). We further define “harm” as an act, including significant habitat modification or degradation, that actually kills or injures wildlife by significantly impairing essential behavioral patterns, including breeding, feeding, or sheltering (50 CFR 17.3). We further define “harass” as an intentional or negligent act or omission which creates the likelihood of injury to wildlife by annoying it to such an extent as to significantly disrupt behavioral patterns such as breeding, feeding, and sheltering.

Under certain circumstances, we may issue permits to take listed species if such taking is incidental to, and not the purpose of, otherwise lawful activities. Regulations governing permits for threatened or endangered species incidental take are found at 50 CFR 17.32 and 50 CFR 17.22, respectively.

NEPA requires that Federal agencies conduct an environmental analysis of their proposed actions to determine if the actions may significantly affect the human environment. Under NEPA, a reasonable range of alternatives to a proposed project is developed and considered in the Service's environmental review. Alternatives considered for analysis in a DEIS for an HCP may include, but are not limited to: Variations in the scope of covered activities; variations in the location, amount, and type of conservation activities; variations in permit duration; or a combination of these elements.

Proposed Action

The proposed Federal action is our issuance of a permit to NPPD that would authorize a specified amount and type of incidental take of American burying beetles during construction, operation, and maintenance of a 220-mile, 345-kilovolt (kV) transmission line and substations in the Sandhills of north-central Nebraska. The purpose of the R-Project is to enhance reliability of NPPD's electric transmission system, relieve congestion from existing lines within the transmission system, and provide additional opportunities for development of renewable energy projects. The proposed construction, operation, and maintenance of the NPPD R-Project may affect the American burying beetle directly, and possibly indirectly, through habitat fragmentation and temporary and permanent loss of habitat as a result of ground disturbance and soil compaction. As required for application for the permit, NPPD is developing a HCP that will outline actions to avoid, minimize, and mitigate potential impacts to the American burying beetle. In coordination with NPPD, we will determine the duration of the HCP and permit, which would depend on the anticipated life of the project, time needed to realize benefits of the HCP's conservation measures, and the timeframe in which adverse effects to American burying beetles can be reliably predicted.

Proposed American burying beetle conservation measures that may be considered for the HCP to adopt include: (1) Adjustment in timing of certain construction activities to avoid American burying beetle active periods; (2) avoidance of high-quality habitat areas; (3) reduction in habitat disturbance by prioritizing use of existing disturbed areas for laydown and structure placement; (4) reduction in direct disturbance by modifying construction techniques; (5) reclamation of temporarily disturbed areas; (6) compensation for habitat loss; and (7) removal of carrion. The HCP will also include monitoring and adaptive management features. Monitoring would help determine compliance with and effectiveness of the HCP; validate assumptions, information, and models used to develop the HCP; and provide information to support revisions, if necessary, to the conservation measures over the life of the HCP.

Public Scoping

The primary purpose of the scoping process is for the public to assist the Service in developing a DEIS for the proposed permit action by identifying important issues and alternatives related to NPPD's proposed project, to provide the public with a general understanding of the background of the proposed HCP and activities it would cover, and an overview of the NEPA process. To ensure that we identify a range of issues and alternatives related to the proposed permit action, we invite comments and suggestions from all interested parties.

The scoping meetings will consist of an open house format from 4 p.m. to 7 p.m. about the proposed action and NEPA process. The open house format will provide interested members of the public an opportunity to learn about the proposed action, permit area, and the covered species. We will accept oral and written comments throughout the public meeting. A court reporter and an interpreter will be present if deemed necessary. You may also submit your comments and materials by one of the methods listed in the ADDRESSES section.

Public Comments

We request data, comments, new information, or suggestions from the public, other concerned governmental agencies; the scientific community; tribes; industry; or any other interested party on this notice. We and NPPD will consider these comments in developing the DEIS and the draft HCP related to the proposed project. We particularly seek comments on the following:

1. The direct, indirect, and cumulative effects that implementation of any reasonable alternative to the proposed project could have on endangered or threatened species and other unlisted species, including migratory birds and their habitats;

2. Other reasonable alternatives to the proposed project and permit issuance that should be considered;

3. Relevant biological data and additional information concerning the American burying beetle;

4. Current or planned activities in the subject area and their possible impacts on the American burying beetle;

5. The presence of archaeological sites, buildings and structures, historic sites, sacred and traditional areas, and other historic preservation concerns;

6. The scope of covered activities, including potential avoidance, minimization, and mitigation measures for incidental take of the American burying beetle;

7. Appropriate monitoring and adaptive management provisions that should be included in the HCP; and

8. Identification of any other environmental issues that should be considered regarding the proposed project and permit action.

Public Availability of Comments

Comments and materials we receive in response to this notice and at the public meeting, as well as supporting documentation we use in preparing the DEIS, will become part of the public record and will be available for public inspection at www.regulations.gov (see ADDRESSES). Before including your address, phone number, email address, or other personal identifying information in your comments, you should be aware that your entire comment—including your personal identifying information—may be made publicly available at any time. While you can ask us in your comment to withhold your personal identifying information from public review, we cannot guarantee that we will be able to do so.

Environmental Review and Next Steps

The DEIS will include analyses of potential impacts on the American burying beetle from the HCP and the permit and from each identified alternative to the action. The DEIS will provide biological descriptions of affected species and habitats, as well as the effects of the alternatives on other resources, such as vegetation, wetlands, wildlife, geology and soils, air quality, water resources, water quality, cultural resources, land use, recreation, water use, the local economy, and environmental justice. Following completion of the environmental review, we will publish a notice of availability and request for public comments on the DEIS, NPPD's permit application, and the draft HCP. The DEIS and draft HCP are expected to be completed and available for the public review during the first three months of the 2016 calendar year.

Authority

Our environmental review of this project will be conducted in accordance with the requirements of NEPA (42 U.S.C. 4321 et seq.), Council of Environmental Quality regulations (40 CFR parts 1500-1508), other applicable Federal laws and regulations, and the Service's applicable policies and procedures. This notice is being furnished in accordance with 40 CFR 1501.7 of the NEPA regulations to obtain suggestions and information from other agencies and the public on the scope of issues and alternatives to be addressed in the DEIS.

Dated: October 8, 2014.
Nicole Alt,
Acting Assistant Regional Director—Ecological Services, Mountain-Prairie Region, Denver, CO.

[FR Doc. 2014-25796 Filed 10-29-14; 8:45 am]

BILLING CODE 4310-55-P